DEPARTMENT OF COMMERCE

International Trade Administration

[A-533-891; A-580-904]

Forged Steel Fittings From India and the Republic of Korea: Antidumping Duty Orders

AGENCY: Enforcement and Compliance, International Trade Administration, Department of Commerce.

SUMMARY: Based on affirmative final determinations by the Department of Commerce (Commerce) and the International Trade Commission (ITC), Commerce is issuing antidumping duty orders on forged steel fittings from India and the Republic of Korea (Korea).

DATES: Applicable December 11, 2020.

FOR FURTHER INFORMATION CONTACT: Caitlin Monks, AD/CVD Operations, Office VII, Enforcement and Compliance, International Trade Administration, U.S. Department of Commerce, 1401 Constitution Avenue NW, Washington, DC 20230; telephone: (202) 482-2670.

SUPPLEMENTARY INFORMATION:

Background

In accordance with sections 735(d) and 777(i)(1) of the Tariff Act of 1930, as amended (the Act), and 19 CFR 351.210(c), on October 19, 2020, Commerce published its final affirmative determinations in the less-than-fair-value (LTFV) investigations of forged steel fittings from India and Korea.¹ On November 25, 2020, the ITC notified Commerce of its final affirmative determinations that an industry in the United States is materially injured within the meaning of section 735(b)(1)(A)(i) of the Act, by reason of LTFV imports of forged steel fittings from India and Korea.²

¹ See Forged Steel Fittings from India: Final Affirmative Determination of Sales at Less Than Fair Value, 85 FR 66306 (October 19, 2020); see also Forged Steel Fittings from the Republic of Korea: Final Affirmative Determination of Sales at Less Than Fair Value, 85 FR 66302 (October 19, 2020).

² See ITC's Letter, “Notification of ITC Final Determinations,” dated November 25, 2020.

Scope of the Orders

The products covered by these orders are forged steel fittings from India and Korea. For a complete description of the scope of the orders, see the Appendix to this notice.

Antidumping Duty Orders

On November 25, 2020, in accordance with sections 735(b)(1)(A)(i) and 735(d) of the Act, the ITC notified Commerce of its final determinations in this investigation, in which it found that an industry in the United States is materially injured by reason of imports of forged steel fittings from India and Korea.³ Therefore, in accordance with section 735(c)(2) of the Act, Commerce is issuing these antidumping duty orders. Because the ITC determined that imports of forged steel fittings from India and Korea are materially injuring a U.S. industry, unliquidated entries of such merchandise from India and Korea, entered or withdrawn from warehouse for consumption, are subject to the assessment of antidumping duties.

³ See ITC Notification; see also Forged Steel Fittings from India and Korea (Inv. Nos. 701-TA-631 and 731-TA-1463-1464 (Final), USITC Publication 5137, November 2020).

As a result of the ITC's final affirmative determinations, in accordance with section 736(a)(1) of the Act, Commerce will direct U.S. Customs and Border Protection (CBP) to assess, upon further instruction by Commerce, antidumping duties equal to the amount by which the normal value of the merchandise exceeds the export price or constructed export price of the merchandise, for all relevant entries of forged steel fittings from India. Antidumping duties will be assessed on unliquidated entries of forged steel fittings from India and Korea entered, or withdrawn from warehouse, for consumption on or after May 28, 2020, the date of publication of the Preliminary Determinations,⁴ but will not include entries occurring after the expiration of the provisional measures period and before publication of the ITC's final injury determination, as further described below.

⁴ See Forged Steel Fittings from India: Preliminary Affirmative Determination of Sales at Less-Than-Fair-Value, Postponement of Final Determination, and Extension of Provisional Measures, 85 FR 32007 (May 28, 2020); see also Forged Steel Fittings from the Republic of Korea: Preliminary Affirmative Determination of Sales at Less-Than-Fair-Value, Postponement of Final Determination, and Extension of Provisional Measures, 85 FR 32010 (May 28, 2020); (Preliminary Determinations).

Continuation of Suspension of Liquidation

In accordance with section 736 of the Act, Commerce will instruct CBP to continue to suspend liquidation of all relevant entries of forged steel fittings from India and Korea, as described in the Appendix of this notice, which are entered, or withdrawn from warehouse, for consumption on or after the date of publication of the ITC's notice of final determination in the Federal Register. These instructions suspending liquidation will remain in effect until further notice. Because the rate for Shakti Forge Industries Pvt. Ltd (Shakti) ⁵ is zero, we will not instruct CBP to suspend liquidation of entries of subject merchandise produced and exported by Shakti or to require cash deposits on such entries. Entries of subject merchandise exported to the United States by any other producer/exporter combination, e.g., merchandise produced by a third party and exported by Shakti, or produced by Shakti and exported by a third party, are not entitled to this exclusion from suspension of liquidation and are subject to the applicable cash deposit rates noted below.

⁵ Commerce has determined Shakti Forge Industries Pvt. Ltd and its affiliate Shakti Forge to constitute a single entity. See Preliminary Decision Memorandum.

Commerce will also instruct CBP to require cash deposits equal to the estimated weighted-average dumping margins included in the tables below. Accordingly, effective on the date of publication in the Federal Register of the notice of the ITC's final affirmative injury determinations, CBP will require, at the same time as importers would normally deposit estimated duties on subject merchandise, a cash deposit equal to the estimated weighted-average dumping margins listed in the tables below. The all-others rate for each country applies to all producers or exporters not specifically listed.

Estimated Weighted-Average Dumping Margins

The estimated weighted-average dumping margins for each antidumping duty order are as follows:

India
Exporter/producer | Estimated weighted- average dumping margin (percent) | Cash deposit rate (adjusted for subsidy offset(s)) (percent) ⁶
Shakti Forge Industries Pvt. Ltd ⁷ | * 0.00 | Not Applicable.
Nikoo Forge Pvt. Ltd. | ** 293.40 | 290.88.
Pan International | ** 293.40 | 290.88.
Disha Auto Components Pvt. Ltd | ** 293.40 | 290.88.
Dynamic Flow Products | ** 293.40 | 290.88.
Kirtanlal Steel Pvt Ltd | ** 293.40 | 290.88.
Metal Forgings Pvt Ltd | ** 293.40 | 290.88.
Patton International Limited | ** 293.40 | 290.88.
Sage Metals Limited | ** 293.40 | 290.88.
Technotrak Engineers | ** 293.40 | 290.88.
All Others | 195.60 | 193.08.
* (de minimis).
** (adverse facts available (AFA)).

Korea
Exporter/producer | Estimated weighted- average dumping margin (percent)
Samyoung Fitting Co., Ltd | 17.08
Sandong Metal Industry Co., Ltd | ** 198.38
ZEOtech Co., Ltd | ** 198.38
Pusan Coupling Corporation | ** 198.38
Shinchang Industries | ** 198.38
Shinwoo Tech | ** 198.38
Titus Industrial Korea Co, Ltd | ** 198.38
All Others | 17.08
** AFA.

Provisional Measures

⁶ See Memorandum, “Final Countervailing Duty Determination Calculations for Shakti Forge Industries Pvt. Ltd. and Shakti Forge,” dated October 13, 2020.

⁷ Commerce has determined Shakti Forge Industries Pvt. Ltd and its affiliate Shakti Forge to constitute a single entity. See Preliminary Decision Memorandum.

Section 733(d) of the Act states that suspension of liquidation pursuant to an affirmative preliminary determination may not remain in effect for more than four months, except that Commerce may extend the four-month period to no more than six months at the request of exporters representing a significant portion of exports of the subject merchandise. At the request of exporters that account for a significant proportion of forged steel fittings from India and Korea, Commerce extended the four-month period to six months in the Preliminary Determinations, published on May 28, 2020. Therefore, the extended provisional measures period, beginning on the date of publication of the Preliminary Determinations, ended on November 23, 2020. Pursuant to section 737(b) of the Act, the collection of cash deposits at the rates listed above will begin on the date of publication of the ITC's final injury determination.

Therefore, in accordance with section 733(d) of the Act and our practice, we will instruct CBP to terminate the suspension of liquidation and to liquidate, without regard to antidumping duties, unliquidated entries of forged steel fittings from India and Korea entered, or withdrawn from warehouse, for consumption on or after November 24, 2020, the first day provisional measures were no longer in effect, until and through the day preceding the date of publication of the ITC's final injury determinations in the Federal Register.

Notifications to Interested Parties

This notice constitutes the antidumping duty orders with respect to forged steel fittings from India and Korea, pursuant to section 736(a) of the Act. Interested parties can find a list of antidumping duty orders currently in effect at https://enforcement.trade.gov/stats/iastats1.html.

These orders are issued and published in accordance with section 736(a) of the Act and 19 CFR 351.211(b).

Dated: December 4, 2020.
Jeffrey I. Kessler,
Assistant Secretary for Enforcement and Compliance.

Appendix

Scope of the Orders

The merchandise covered by these orders is carbon and alloy forged steel fittings, whether unfinished (commonly known as blanks or rough forgings) or finished. Such fittings are made in a variety of shapes including, but not limited to, elbows, tees, crosses, laterals, couplings, reducers, caps, plugs, bushings, unions (including hammer unions), and outlets. Forged steel fittings are covered regardless of end finish, whether threaded, socket-weld or other end connections. The scope includes integrally reinforced forged branch outlet fittings, regardless of whether they have one or more ends that is a socket welding, threaded, butt welding end, or other end connections.

While these fittings are generally manufactured to specifications ASME B16.11, MSS SP-79, MSS SP-83, MSS-SP-97, ASTM A105, ASTM A350 and ASTM A182, the scope is not limited to fittings made to these specifications.

The term forged is an industry term used to describe a class of products included in applicable standards, and it does not reference an exclusive manufacturing process. Forged steel fittings are not manufactured from casings. Pursuant to the applicable standards, fittings may also be machined from bar stock or machined from seamless pipe and tube.

All types of forged steel fittings are included in the scope regardless of nominal pipe size (which may or may not be expressed in inches of nominal pipe size), pressure class rating (expressed in pounds of pressure, e.g., 2,000 or 2M; 3,000 or 3M; 6,000 or 6M; 9,000 or 9M), wall thickness, and whether or not heat treated.

Excluded from this scope are all fittings entirely made of stainless steel. Also excluded are flanges, nipples, and all fittings that have a maximum pressure rating of 300 pounds per square inch/PSI or less.

Also excluded from the scope are fittings certified or made to the following standards, so long as the fittings are not also manufactured to the specifications of ASME B16.11, MSS SP-79, MSS SP-83, MSS SP-97, ASTM A105, ASTM A350 and ASTM A182:

• American Petroleum Institute (API) 5CT, API 5L, or API 11B;

• American Society of Mechanical Engineers (ASME) B16.9;

• Manufacturers Standardization Society (MSS) SP-75;

• Society of Automotive Engineering (SAE) J476, SAE J514, SAE J516, SAE J517, SAE J518, SAE J1026, SAE J1231, SAE J1453, SAE J1926, J2044 or SAE AS 35411;

• Hydraulic hose fittings (e.g., fittings used in high pressure water cleaning applications, in the manufacture of hydraulic engines, to connect rubber dispensing hoses to a dispensing nozzle or grease fitting) made to ISO 12151-1, 12151-2, 12151-3, 12151-4, 12151-5, or 12151-6;

• Underwriter's Laboratories (UL) certified electrical conduit fittings;

• ASTM A153, A536, A576, or A865;

• Casing conductor connectors made to proprietary specifications;

• Machined steel parts (e.g., couplers) that are not certified to any specifications in this scope description and that are not for connecting steel pipes for distributing gas and liquids;

• Oil country tubular goods (OCTG) connectors (e.g., forged steel tubular connectors for API 5L pipes or OCTG for offshore oil and gas drilling and extraction);

• Military Specification (MIL) MIL-C-4109F and MIL-F-3541; and

• International Organization for Standardization (ISO) ISO6150-B.

Also excluded from the scope are assembled or unassembled hammer unions that consist of a nut and two subs. To qualify for this exclusion, the hammer union must meet each of the following criteria: (1) The face of the nut of the hammer union is permanently marked with one of the following markings: “FIG 100,” “FIG 110,” “FIG 100C,” “FIG 200,” “FIG 200C,” “FIG 201,” “FIG 202,” “FIG 206,” “FIG 207,” “FIG 211,” “FIG 300,” “FIG 301,” “FIG 400,” “FIG 600,” “FIG 602,” “FIG 607,” “FIG 1002,” “FIG 1003,” “FIG 1502,” “FIG 1505,” “FIG 2002,” or “FIG 2202”; (2) the hammer union does not bear any of the following markings: “Class 3000,” “Class 3M,” “Class 6000,” “Class 6M,” “Class 9000,” or “Class 9M”; and (3) the nut and both subs of the hammer union are painted.

Also excluded from the scope are subs or wingnuts made to ASTM A788, marked with “FIG 1002,” “FIG 1502,” or “FIG 2002,” and with a pressure rating of 10,000 PSI or greater. These parts are made from AISI/SAE 4130, 4140, or 4340 steel and are 100 percent magnetic particle inspected before shipment.

Also excluded from the scope are tee, elbow, cross, adapter (or “crossover”), blast joint (or “spacer”), blind sub, swivel joint and pup joint which have wing nut or not. To qualify for this exclusion, these products must meet each of the following criteria: (1) Manufacturing and Inspection standard is API 6A or API 16C; and, (2) body or wing nut is permanently marked with one of the following markings: “FIG 2002,” “FIG 1502,” “FIG 1002,” “FIG 602,” “FIG 206,” or “FIG any other number” or MTR (Material Test Report) shows these FIG numbers.

To be excluded from the scope, products must have the appropriate standard or pressure markings and/or be accompanied by documentation showing product compliance to the applicable standard or pressure, e.g., “API 5CT” mark and/or a mill certification report.

Subject carbon and alloy forged steel fittings are normally entered under Harmonized Tariff Schedule of the United States (HTSUS) 7307.92.3010, 7307.92.3030, 7307.92.9000, 7307.99.1000, 7307.99.3000, 7307.99.5045, and 7307.99.5060. They may also be entered under HTSUS 7307.93.3010, 7307.93.3040, 7307.93.6000, 7307.93.9010, 7307.93.9040, 7307.93.9060, and 7326.19.0010.

The HTSUS subheadings and specifications are provided for convenience and customs purposes; the written description of the scope is dispositive.

[FR Doc. 2020-27304 Filed 12-10-20; 8:45 am]

BILLING CODE 3510-DS-P